DEPARTMENT OF COMMERCE

National Oceanic and Atmospheric Administration

[I.D. 021301D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Skate Oversight Committee and Advisory Panel, Habitat Oversight Committee, Scientific and Statistical Committee (SSC) and Scallop Committee in March, 2001 to consider actions affecting New England fisheries in the exclusive economic zone (EEZ). Recommendations from these groups will be brought to the full Council for formal consideration and action, if appropriate.

DATES: The meetings will held between Tuesday, March 6, 2001 and Monday, March 12, 2001. See SUPPLEMENTARY INFORMATION for specific dates and times.

ADDRESSES: The meetings will be held in Warwick, RI, Newburyport, Danvers and East Boston, MA. See SUPPLEMENTARY INFORMATION for specific locations.

FURTHER INFORMATION CONTACT: Paul J. Howard, Executive Director, New England Fishery Management Council; (978) 465-0492.

SUPPLEMENTARY INFORMATION:

Meeting Dates and Agendas

Tuesday, March 6, 2001, 10 a.m.—Scientific and Statistical Committee

Location: Rossi’s, 50 Water Street, Newburyport, MA 01950; telephone: (978) 499-0240.

The SSC committee will develop plans to provide the Council advice on the priorities identified by the Council. These include: (1) Review of fishing mortality and biomass reference points for selected groundfish species and skates; (2) Review of changes in the scallop reference points that might result from a rotational area management strategy and the scientific basis of proposed scallop rotational area management measures as developed by the Council and Scallop Plan Development Team (PDT); (3) Evaluation of the available information on the stock structure of monkfish and its implications for management. Review of the monkfish assessment update (to be done by the Monkfish Monitoring committee, and review of fishing mortality and biomass reference points; (4) Review of the update of whiting status that will be completed by the Whiting PDT; (5) Other issues that it might advise the Council on such as the potential value of marine protected areas (MPAs) and closed areas (quantify benefits from existing closed areas) and multispecies management issues.

Tuesday, March 6, 2001, 9:30 a.m.—Joint Skate Committee and Advisory Panel Meeting.

Location: Radisson Airport Hotel, 2081 Post Road, Warwick, RI 02886; telephone: (401) 739-3000.

The agenda will include a review of comments received during scoping period for Skate Fishery Management Plan (FMP). The committee and advisory panel will review Skate PDT report and provide additional guidance to the PDT. They will also develop management alternatives for Draft Skate FMP and public hearing document.

Wednesday, March 7, 2001, 9:30 a.m.—Habitat Oversight Committee.

Location: Sheraton Ferncroft, 50 Ferncroft Road, Danvers, MA 01923; telephone: (978)777-2500.

The agenda will include a discussion of habitat measures, alternatives and analyses to be included in the Groundfish FMP Amendment 13 Draft Supplementary Environmental Impact Statement (DSEIS). The committee will consider preliminary information on required essential fish habitat (EFH) components of proposed Skate and Red Crab FMPs. They will also review EFH Consultation activities, including a proposed General Concurrence for U.S. Army Corps of Engineers Philadelphia District's Nationwide Permit Program.

The Committee will review applications to the Advisory Panel in a CLOSED SESSION.

Monday, March 12, 2001, 9:30 a.m.—Scallop Oversight Committee Meeting.

Location: Airport Holiday Inn, 225 McClellan Highway, East Boston, MA 02128; telephone: (617)569-5250.

The Scallop Oversight Committee will approve problem statements, goals and objectives, and proposed management alternatives outline for Amendment 10.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 14, 2001.
Richard W. Surdi,
Acting Director, Office of Sustainable Fisheries, National Marine Fisheries Service.

[FR Doc. 01-4296 Filed 2-20-01; 8:45 am]

BILLING CODE 3510-22-S